DEPARTMENT OF AGRICULTURE

Commodity Credit Corporation

Chesapeake Bay Watershed Initiative

AGENCY: Commodity Credit Corporation and Natural Resources Conservation Service, Department of Agriculture.

ACTION: Notice of availability of program funds for the Chesapeake Bay Watershed Initiative.

SUMMARY: The Commodity Credit Corporation (CCC) and the Natural Resources Conservation Service (NRCS) announce the availability of up to $44,158,381 of technical and financial assistance funding in fiscal year (FY) 2010 through the Chesapeake Bay Watershed Initiative for agricultural producers in the Chesapeake Bay watershed in the States of Delaware, Maryland, New York, Pennsylvania, Virginia, and West Virginia. The Chesapeake Bay Watershed Initiative funds are available to help producers implement natural resources conservation practices on agricultural lands.

DATES: Effective Date: The Notice of Request is effective March 12, 2010.

FOR FURTHER INFORMATION CONTACT: Dana D. York, Director, Conservation Planning and Technical Assistance Division, Department of Agriculture, Natural Resources Conservation Service, 1400 Independence Avenue SW., Room 6015 South Building, Washington, DC 20013; Telephone: (202) 720-1510; Fax: (202) 720-2998; or E-mail: dana.york@wdc.usda.gov.

SUPPLEMENTARY INFORMATION:

CCC and NRCS hereby announce the availability of up to $44,158,381 to provide technical and financial assistance to producers through the Chesapeake Bay Watershed Initiative in FY 2010.

Section 1240Q of the Food Security Act of 1985, as amended by the Food, Conservation, and Energy Act of 2008, established the Chesapeake Bay Watershed Initiative and defined the Chesapeake Bay watershed to mean all tributaries, backwaters, and side channels, including their watersheds, draining into the Chesapeake Bay. This area includes portions of the States of Delaware, Maryland, New York, Pennsylvania, Virginia, and West Virginia. The NRCS administers the Chesapeake Bay Watershed Initiative and carries out program implementation using funds, facilities, and authorities of the CCC. The Initiative gives special, but not exclusive, consideration to producers' applications in the following river basins: Susquehanna River, Shenandoah River, Potomac River (including North and South), and the Patuxent River.

The Chesapeake Bay Watershed Initiative helps agricultural producers improve water quality and quantity, and restore, enhance, and conserve soil, air, and related resources in the Chesapeake Bay watershed through the implementation of conservation practices. These conservation practices reduce soil erosion and nutrient levels in ground and surface water; improve, restore, and enhance wildlife habitat; and help address air quality and related natural resource concerns. The Initiative is carried out through the various natural resources conservation programs authorized under Subtitle D, Title XII of the Food Security Act of 1985, as amended. The Chesapeake Bay Watershed Initiative assistance in FY 2010 will be delivered through the Environmental Quality Incentives Program (EQIP) and the Cooperative Conservation Partnership Initiative (CCPI) which consists of EQIP and the Wildlife Habitat Incentive Program (WHIP). All EQIP, CCPI, and WHIP requirements and policies will apply.

Individuals interested in applying for Chesapeake Bay Watershed Initiative assistance may contact their local USDA service center in the eligible Chesapeake Bay Watershed Initiative States. A listing of local service centers can be found at: http://offices.sc.egov.usda.gov/locator/app?agency=nrcs.

Signed this March 8, 2010, in Washington, DC.
Dave White,
Vice President, Commodity Credit Corporation and Chief, Natural Resources Conservation Service.

[FR Doc. 2010-5438 Filed 3-11-10; 8:45 am]

BILLING CODE 3410-16-P